DEPARTMENT OF COMMERCE

International Trade Administration

[A-570-874]

Notice of Final Determination of Sales at Less Than Fair Value: Certain Ball Bearings and Parts Thereof From the People's Republic of China

AGENCY: Import Administration, International Trade Administration, Department of Commerce.

ACTION: Notice of final determination of sales at less than fair value.

EFFECTIVE DATE: March 6, 2003.

FOR FURTHER INFORMATION CONTACT: James Terpstra or Cindy Lai Robinson, AD/CVD Enforcement, Office 6, Group II, Import Administration, International Trade Administration, U.S. Department of Commerce, 14th Street and Constitution Avenue, NW., Washington, DC 20230; telephone: (202) 482-3965, and (202) 482-3797, respectively.

SUPPLEMENTARY INFORMATION:

Final Determination

Pursuant to section 735 of the Tariff Act of 1930, as amended (the Act), we determine that ball bearings from the People's Republic of China (PRC) are being sold, or are likely to be sold, in the United States at less than fair value (LTFV). The estimated margins of sales at LTFV are shown in the “Final Determination of Investigation” section of this notice.

Background

On October 15, 2002, the Department of Commerce (the Department) published its preliminary determination of sales at LTFV in the antidumping duty investigation of ball bearings from the PRC. See Notice of Preliminary Determination of Sales at Less Than Fair Value and Postponement of Final Determination: Certain Ball Bearings and Parts Thereof from the People's Republic of China, 67 FR 63609 (October 15, 2002) (Preliminary Determination).

On November 20, 2002, the Department published the amended preliminary determination of sales at LTFV in the antidumping duty investigation of ball bearings from the PRC. See Notice of Amended Preliminary Determination of Sales at Less Than Fair Value: Certain Ball Bearings and Parts Thereof from the People's Republic of China, 67 FR 70053 (November 20, 2002) (Amended Preliminary Determination). Since the preliminary determination, the following events have occurred.

During November and December 2002, the Department conducted verifications of the mandatory respondents' ¹ sales and factors of production information.

¹ The mandatory respondents in this investigation are Zhejiang Xinchang Peer Bearing Company Ltd. (Peer), Wanxiang Group Corporation (Wanxiang), and Ningbo Cixing Group Corp. and its U.S. affiliate, CW Bearings USA, Inc. (collectively, Cixing).

Both the petitioner ² and the mandatory respondents (respondents) filed surrogate value information and data on December 13, 2002. On December 23, 2002, petitioner and respondents filed information rebutting the December 13 factor value submissions.

² The petitioner in this case is the American Bearing Manufacturers Association (ABMA).

Parties filed case and rebuttal briefs on January 13 and January 21, 2003, respectively. On January 22, 2003, a public hearing was held at the Department of Commerce.

We note that although we stated in our Amended Preliminary Determination that we would make the final determination no later than February 26, 2003, the actual statutory deadline pursuant to section 735(a)(2) of the Act is February 27, 2003. Accordingly, we are issuing our final determination on February 27, 2003, in accordance with the statutory requirement.

Scope of the Investigation

The scope of the investigation includes all antifriction bearings, regardless of size, precision grade or use, that employ balls as the rolling element (whether ground or unground) and parts thereof (inner ring, outer ring, cage, balls, seals, shields, etc.) that are produced in China. Imports of these products are classified under the following categories: antifriction balls, ball bearings with integral shafts and parts thereof, ball bearings (including thrust, angular contact, and radial ball bearings) and parts thereof, and housed or mounted ball bearing units and parts thereof. The scope includes ball bearing type pillow blocks and parts thereof and wheel hub units incorporating balls as the rolling element. With regard to finished parts, all such parts are included in the scope of the petition. With regard to unfinished parts, such parts are included if (1) they have been heat-treated, or (2) heat treatment is not required to be performed on the part. Thus, the only unfinished parts that are not covered by the petition are those that will be subject to heat treatment after importation.

Imports of these products are classified under the following Harmonized Tariff Schedules of the United States (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.30.40, 8483.30.80, 8483.50.90, 8483.90.20, 8483.90.30, 8483.90.70, 8708.50.50, 8708.60.50, 8708.60.80, 8708.70.6060, 8708.93.30, 8708.93.6000, 8708.93.75, 8708.99.06, 8708.99.31, 8708.99.4000, 8708.99.4960, 8708.99.5800, 8708.99.8080, 8803.10.00, 8803.20.00, 8803.30.00, 8803.90.30, and 8803.90.90.

Although the HTSUS subheadings are provided for convenience and U.S. Customs Service (Customs) purposes, the written description of the merchandise under investigation is dispositive.

Specifically excluded from the scope are unfinished parts that are subject to heat treatment after importation. Also excluded from the scope are cylindrical roller bearings, mounted or unmounted, and parts thereof (CRB) and spherical plain bearings, mounted and unmounted, and parts thereof (SPB). CRB products include all antifriction bearings that employ cylindrical rollers as the rolling element. SPB products include all spherical plain bearings that employ a spherically shaped sliding element and include spherical plain rod ends.

Scope Clarification

In the Preliminary Determination, the Department addressed scope inquiries received from Caterpillar Inc., Nippon Pillow Block Sales Company Limited, Nippon Pillow Block Manufacturing Company Limited and FYH Bearing Units USA, Inc. (collectively, NPBS), and Wanxiang.

On April 22, 2002, Caterpillar Inc. requested that XLS (English) series ball bearings and pin-lock slot XLS (English) series ball bearings having an inside diameter of between 1¾ inches and 5½ inches be excluded from the scope of the investigation.

On April 23, 2002, NPBS requested that the Department clarify whether split pillow block housings and non-split pillow block housings, which are imported separately from ball bearings, are excluded from the scope of the investigation.

On May 28, 2002, Wanxiang, one of the three mandatory respondents, requested guidance as to whether the language in the scope stating that the investigation covers “wheel hub units incorporating balls as the rolling element” also includes wheel hub units that do not contain ball bearings or any other type of rolling element at the time of importation.

The Department preliminarily determined that the scope of the investigation includes all antifriction bearings, regardless of size, precision grade or use, that employ balls as the rolling element, and parts thereof. Therefore, XLS (English) series ball bearings and pin-lock slot XLS (English) series ball bearings are clearly within the scope. With respect to NPBS's request for clarification of whether split pillow block housings and non-split pillow block housings that are imported separately from ball bearings are excluded from the scope of this investigation, the Department previously determined in Final Determination of Sales at Less Than Fair Value: Antifriction Bearings (Other Than Tapered Roller Bearings) and Parts Thereof from the Republic of Germany, 54 FR 18992, 19015 (May 3, 1989) (Antifriction Bearings) that pillow block housings are not bearings, do not contain bearings, and are not parts or subassemblies of bearings. Therefore, consistent with that determination and the facts of this investigation, we found that split pillow block housings (not containing antifriction bearings) are excluded from the scope of this investigation. However, the scope of the current investigation includes ball bearing type pillow blocks and parts thereof. Thus, non-split pillow blocks, even when imported separately, are included in the scope.

Regarding Wanxiang's request for clarification as to whether empty wheel hub units are included in the scope, in the Preliminary Determination, the Department stated that we would examine this issue further to determine whether the empty wheel hub units produced by Wanxiang use balls or tapered roller bearings interchangeably. At the verification of Wanxiang, company officials used a model of an empty wheel hub unit to demonstrate that the base of the unit can be used with either ball bearings or tapered bearings as the rolling element. Based on that demonstration, we determine that because the empty wheel hub units produced by Wanxiang can use either balls or tapered roller bearings interchangeably, such merchandise is included within the scope of this investigation. Neither the Department nor Customs can ascertain with certainty which empty well hub units will be solely used for tapered roller bearings and which ones will be designated for use with roller bearings.

Based on the foregoing, the Department maintains its position in the final determination that the scope of the investigation includes XLS (English) series ball bearings and pin-lock slot XLS (English) series ball bearings; non-split pillow blocks, even when imported separately; and empty wheel hub units. See Preliminary Determination, 67 FR 63610.

Since the publication of the Preliminary Determination, the Department received two requests for scope clarifications. On November 15, 2002, Guangdong Agricultural Machinery Import & Export (GAM), a voluntary Section A respondent, requested that the Department exclude mast guide bearings and chain wheels from the scope, which they claim are used exclusively in forklift trucks. Alternatively, GAM requested that the Department determine that mast guide bearings are a separate class or kind of subject merchandise than all other ball bearings. On December 6, 2002, EMPI Inc. sought a scope clarification for some of the balls that it imports because those balls are used exclusively in the rebuilding of CV joints.

These two additional scope requests were received after the Preliminary Determination. Due to time constraints in conducting this investigation, the Department was unable to address the additional scope requests within the context of this investigation. As a result, we have not addressed the scope requests or additional arguments raised by the petitioner in our final determination. However, should an order be issued in the instant investigation, parties can resubmit scope requests in accordance with section 351.225 of the Department's regulations and the Department will examine such requests in that context.

Name Changes

Since the Preliminary Determination, a number of parties have notified the Department of incorrect company names or have requested name changes.

On October 31, 2002 and on January 13, 2003, Zhejiang Rolling Bearing Co., Ltd. (ZRB) informed the Department of its name change to Zhejiang Tianma Bearing Co., Ltd. The supporting documentation included a pre-approval from the Zhejiang Industrial and Commercial Administration Bureau. ZRB also stated that notwithstanding the approval, it is required under Chinese law to maintain its original name for one year after final approval. We find that during the period of investigation (POI), the company name remained ZRB; therefore, the company-specific rate is only applicable to ZRB. For further discussion of this issue, see Comment 4, “Corporate Name Change Filing” of the Memorandum from Holly A. Kuga, Acting Deputy Assistant Secretary for Import Administration, to Faryar Shirzad, Assistant Secretary for Import Administration, “Issues and Decision Memorandum for the Final Determination in the Antidumping Duty Investigation of Certain Ball Bearings and Parts Thereof from the People's Republic of China,” dated concurrently with this notice (Decision Memorandum).

On November 1, 2002, China National Automotive Industry Guizhou Import & Export Corporation stated that they had incorrectly reported the company's name as China National Automobile Industry Guizhou Import & Export Corporation. Dong Guan Bearing Factory also reported that it is in the process of changing its name to Dong Guan TR Bearings Group, Ltd. (TR) and requested that the Department use both the old and new names in the instructions to Customs. Regarding the first request, the Department will notify Customs of the correct company name. However, the Department is unable to grant Dong Guan Bearing Factory's request because the company has stated that it must continue to export under its old name until Chinese Customs switches to the new name, and because the company has not provided any supporting documentation. Therefore, the Department will not issue any instructions to Customs pertaining to the company's new name.

On November 25, 2002, Zhejiang Xinchang Peer Bearing Company, Ltd., a Chinese exporter, and Peer Bearing Company, its affiliated U.S. importer of subject merchandise (Peer), requested that the Department inform Customs that the current antidumping rate assigned to Xinchang Peer Bearing Company, Ltd., is also applicable to Zhejiang Xinchang Peer Bearing Company, Ltd. The company stated that its formal company name is Zhejiang Xinchang Peer Bearing Company, Ltd. However, in the Preliminary Determination and Amended Preliminary Determination, the Department referred to the company as Xinchang Peer Bearing Company, Ltd. Based on record evidence demonstrating the company's true name, the Department determined that Peer's formal name is Zhejiang Xinchang Peer Bearing Company, Ltd. Accordingly, the Department will provide specific instructions to Customs for Zhejiang Xinchang Peer Bearing Company, Ltd.

Period of Investigation

The POI is July 1, 2001, through December 31, 2001. This period corresponds to the two most recent fiscal quarters prior to the month of the filing of the petition (i.e., February 2002). See 19 CFR 351.204(b)(1).

Analysis of Comments Received

All issues raised in the case and rebuttal briefs by parties to this proceeding and to which we have responded are listed in the Appendix to this notice and addressed in the Decision Memorandum, which is hereby adopted by this notice. Parties can find a complete discussion of the issues raised in this investigation and the corresponding recommendations in this public memorandum which is on file in the central records unit (CRU), room B-099 of the main Commerce building. In addition, a complete version of the Decision Memorandum can be accessed directly on the Web at http://ia.ita.doc.gov. The paper copy and electronic version of the Decision Memorandum are identical in content.

Non-Market Economy

The Department has treated the PRC as a non-market economy (NME) country in all its past antidumping investigations. See Notice of Final Determination of Sales at Less Than Fair Value: Certain Folding Gift Boxes from the People's Republic of China, 66 FR 58115 (November 20, 2001); Notice of Final Determination of Sales at Less Than Fair Value: Certain Cold-Rolled Carbon Steel Flat Products from the People's Republic of China, 67 FR 62107 (October 3, 2002). A designation as an NME country remains in effect until it is revoked by the Department. See section 771(18)(C) of the Act. The respondents in this investigation have not requested a revocation of the PRC's NME status. Therefore, we have continued to treat the PRC as a NME in this investigation. For further details, see the Preliminary Determination.

Separate Rates

In our Preliminary Determination, we found that forty-five companies met the criteria for the application of separate, company-specific antidumping duty rates. We have not received any other information since the Preliminary Determination which would warrant reconsideration of our separates rates determination with respect to these companies. For a complete discussion of the Department's determination that the respondents are entitled to a separate rate, see the Preliminary Determination.

The PRC-Wide Rate

In the Preliminary Determination, we found that the use of adverse facts available for the PRC-wide rate was appropriate for other exporters in the PRC based on our presumption that those respondents who failed to demonstrate entitlement to a separate rate constitute a single enterprise under common control by the Chinese government. The PRC-wide rate applies to all entries of the merchandise under investigation except for entries from the three mandatory respondents and the respondents that are entitled to a separate rate.

When analyzing the petition for purposes of the initiation, the Department reviewed all of the data upon which the petitioner relied in calculating the estimated dumping margin and determined that the margin in the petition was appropriately calculated and supported by adequate evidence in accordance with the statutory requirements for initiation. In order to corroborate the petition margin for purposes of using it as adverse facts available, we examined the price and cost information provided in the petition in the context of our preliminary determination. For further details, see Memorandum from David Salkeld, Case Analyst, to Melissa G. Skinner, Office Director, “Corroboration of Secondary Information,” dated October 1, 2002.

Since the Preliminary Determination, we have received comments from the petitioner, which are discussed in the accompanying Decision Memorandum at Comment 5. The Department has continued to use the PRC-wide rate calculation methodology it employed for the Preliminary Determination, and the PRC-wide rate is, for the final determination, 59.30 percent.

Surrogate Country

For purposes of the final determination, we continue to find that India remains the appropriate surrogate country for the PRC. For further discussion and analysis regarding the surrogate country selection for the PRC, see the Preliminary Determination.

Verification

As provided in section 782(i) of the Act, we verified the information submitted by the respondent for use in our final determination. We used standard verification procedures including examination of relevant accounting and production records, and original source documents provided by the respondents. For changes from the Preliminary Determination as a result of verification, see the “Changes Since the Preliminary Determination” section below.

Changes Since the Preliminary Determination

Based on our findings at verification and on our analysis of the comments received, we have made adjustments to the calculation methodologies used in the preliminary determination. These adjustments are discussed in detail in the (1) Decision Memorandum, (2) Memorandum from the Team to the File, “Final Factors of Production Valuation Memorandum,” dated February 27, 2003, and (3) Memorandum from the Team to the File, “Calculation Memorandum for the Final Determination,” dated February 27, 2003.

Continuation of Suspension of Liquidation

In accordance with section 735(c)(1)(B)(ii) of the Act, we are directing Customs to continue suspension liquidation of entries of subject merchandise from the PRC, except for merchandise produced and exported by Cixing, that are entered, or withdrawn from warehouse, for consumption on or after October 15, 2002 (the date of publication of the Preliminary Determination in the Federal Register). We will instruct Customs to require a cash deposit or the posting of a bond equal to the weighted-average amount by which the normal value exceeds the U.S. price, as indicated in the chart below. Merchandise produced and exported by Cixing will be excluded from any antidumping duty order, if issued. These suspension-of-liquidation instructions will remain in effect until further notice.

Final Determination of Investigation

We determine that the following weighted-average percentage margins exist for the period July 1, 2001, through December 31, 2001:

Manufacturer/exporter | Weighted- average margin (percent)
Zhejiang Xinchang Peer Bearing Company Ltd | 8.33
Wanxiang Group Corporation | 7.22
Ningbo Cixing Group Corp | ¹ 0.59
B&R Bearing Co | 7.80
Changshan Import & Export Company, Ltd | 7.80
Changzhou Daya Import and Export Corporation Limited | 7.80
China Huanchi Bearing Group Corp. and Ningbo Huanchi Import & Export Co. Ltd | 7.80
China National Automobile Industry Guizhou Import & Export Corp | 7.80
China National Machinery & Equipment Import & Export Wuxi Co., Ltd | 7.80
Chongqing Changjiang Bearing Industrial Corporation | 7.80
CSC Bearing Company Limited | 7.80
Dongguan TR Bearing Corporation, Ltd | 7.80
Fujian Nanan Fushan Hardware Machinery Electric Co., Ltd | 7.80
Guangdong Agricultural Machinery Import & Export Company | 7.80
Harbin Bearing Group and Heilongjiang Machinery and Equipment Import and Export Corporation | 7.80
Jiangsu CTD Imports & Exports Co., Ltd | 7.80
Jiangsu General Ball & Roller Co., Ltd | 7.80
Jiangsu Hongye Intl. Group Industrial Development Co., Ltd | 7.80
Jinrun Group Ltd. Haining | 7.80
Ningbo Cixi Import Export Co | 7.80
Ningbo Economic and Technological Development Zone and Tiansheng Bearing Co. Ltd and TSB Group USA Inc. and TSB Bearing Group America, Co. (TSB Group) | 7.80
Ningbo General Bearing Co., Ltd | 7.80
Ningbo Jinpeng Bearing Co., Ltd. and Ningbo Mikasa Bearing Co. Ltd. and Ningbo Cizhuang Bearing Co. Tahsleh Development Zone | 7.80
Ningbo MOS Group Corporation, Ltd | 7.80
Norin Optech Co., Ltd | 7.80
Premier Bearing & Equipment, Ltd | 7.80
Sapporo Precision Inc./Shanghai Precision Bearing Co., Ltd | 7.80
Shaanxi Machinery & Equipment Import & Export Corp | 7.80
Shandong Machinery Import & Export Group Corp | 7.80
Shanghai Bearing (Group) Company Limited | 7.80
Shanghai Foreign Service and Economic Cooperation Co. Ltd | 7.80
Shanghai General Pudong Bearing Co., Ltd | 7.80
Shanghai Hydraulics & Pneumatics Corp | 7.80
Shanghai Nanshi Foreign Economic Cooperation & Trading Co., Ltd | 7.80
Shanghai SNZ Bearings Co., Ltd | 7.80
Shanghai Zhong Ding I/E Trading Co., Ltd. and Shanghai Li Chen Bearings | 7.80
Shaoguan Southeast Bearing Co. Ltd | 7.80
Sin NanHwa Bearings Co. Ltd. and Sin NanHwa Co. Ltd | 7.80
TC Bearing Manufacturing Co. Ltd | 7.80
Wafangdian Bearing Company Ltd | 7.80
Wholelucks Industrial Limited | 7.80
Wuxi New-way Machinery Co., Ltd | 7.80
Zhejiang Rolling Bearing Co. Ltd | 7.80
Zhejiang Shenlong Bearing Co. Ltd | 7.80
Zhejiang Wanbang Industrial Co., Ltd | 7.80
Zhejiang Xinchang Xinzhou Industrial Co. Ltd | 7.80
Zhejiang Xinchun Bearing Co. Ltd | 7.80
Zhejiang ZITIC Import & Export Co. Ltd | 7.80
PRC-Wide Rate | 59.30
¹ De Minimis.

International Trade Commission Notification

In accordance with section 735(d) of the Act, we have notified the International Trade Commission (ITC) of our determination. As our final determination is affirmative, the ITC will determine, within 45 days, whether these imports are materially injuring, or threaten material injury to, the U.S. industry. If the ITC determines that material injury, or threat of material injury does not exist, the proceeding will be terminated and all securities posted will be refunded or canceled. If the ITC determines that such injury does exist, the Department will issue an antidumping duty order directing Customs officials to assess antidumping duties on all imports of subject merchandise entered for consumption on or after the effective date of the suspension of liquidation.

Notification Regarding Administrative Protective Order (APO)

This notice also serves as a reminder to parties subject to APO of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

Dated: February 27, 2003.
Faryar Shirzad,
Assistant Secretary for Import Administration.

Appendix—Issues in Decision Memorandum

I. General Issues

Comment 1: Valuation of Overhead, SG&A, and Profit Ratios (“Financial Ratios”)

A. Whether Companies Which Reported a Loss Should Be Excluded from Profit Ratios Calculation

B. Whether the Department Should Use a Weighted Average or a Simple Average to Calculate Financial Ratios

C. Whether the Department Should Exclude Companies Which Did Not Manufacture the Merchandise under Investigation

D. Whether the Department Should Exclude Financial Data That Are Not Contemporaneous with the POI

E. Whether the Department Should Exclude Companies That Were Owned and Controlled by the Indian Government

F. Whether the Department Should Exclude Company Data Where the Company Is Less Integrated

G. Whether the Department Should Restate Indian Surrogate Producers' FOH and SG&A to Eliminate Certain Distortions

H. Whether the Department Should Exclude the Financial Statements of Indian Producers Which Are Affiliated with Petitioner

I. Whether the Department Should Exclude the Financial Data of Multinational Corporations: SKF, FAG, and TIL

J. Which Indian Surrogate Producers Should Be Included as Surrogate Source for Valuing Financial Ratios

Comment 2: Respondent Selection

Comment 3: GAM Mast Guide Bearings and Chain Wheels

Comment 4: Corporate Name Change Filing

Comment 5: PRC-Wide Rate

Comment 6: Valuation of Purchased Components

Comment 7: Calculating Margins on a Per-Unit Basis

Comment 8: Market Economy Steel Values-Korea/India

II. Company-Specific Issues

A. Peer

Comment 9: Correction of Errors Made in the Preliminary Margin

Comment 10: Incorporation of Corrections Made Prior to Verification

Comment 11: Incorporation of Corrections for Discrepancies Found at Verifications

Comment 12: Require Peer to Provide Complete and Accurate Data for Certain CONNUMs or Use Facts Available

Comment 13: Whether the Department Should Correct Peer's Scrap Recycle Ratio and Recalculate Peer's Material Costs

Comment 14: Whether the Department Should Confirm That Peer Has Reported Any Estimated Rebates

Comment 15: Whether the Department Should Examine or Restate Peer's Reported “Section E” Costs

Comment 16: Whether the Department Should Restate Peer's U.S. Indirect Selling Expenses

Comment 17: Whether the Department Should Restate Certain Factors (Labor and Certain Materials) Which Could Not be Obtained from Suppliers or Subcontractors

Comment 18: Whether the Department Should Use Facts Available for U.S. Inland Freight from the Warehouse to Unaffiliated Customers (INLFWCU)

Comment 19: Whether The Department Should Use Facts Available for Peer's U.S. Unaffiliated Commissions

Comment 20: Whether the Department Should Revise Its Margin Calculation Methodology

Comment 21: Whether the Department Should Exclude Certain Non-Operational Expenses and Reclassify Certain Operational Expenses in Calculating Financial Ratios

Comment 22: Whether the Department Should Use More Contemporaneous Electricity Data

Comment 23: Whether the Department Should Use More Contemporaneous Data Involving Full Shipments for Brokerage and Handling Charges

B. Wanxiang

Comment 24: Surrogate Value for Wooden Packing Pallets, Boxes

Comment 25: Wanxiang's EMQ Bearings

Comment 26: Wanxiang's CEP and Commission Offset

Comment 27: Wanxiang's Steel and Scrap Data

Comment 28: Wanxiang's Brokerage & Handling

Comment 29: U.S. Inland Freight

Comment 30: Ocean Freight

Comment 31: Computer Programming Error (ELASCLP2)

Comment 32: Steel Type for Rings and Balls

Comment 33: Steel Wire Rod (for Balls)

Comment 34: Surrogate Value for SAE 1045 Plain Carbon Steel for Hubs, Spindles and Circlips, Bolts

Comment 35: Surrogate Value for SAE 1566 Structure Carbon Steel for Certain Outer Rings and Spindles

Comment 36: Surrogate Value for Steel Bar (for Rings)

Comment 37: Surrogate Value for Steel Tube (for Rings)

Comment 38: Surrogate Value for Cold-Rolled Steel for Shields, Cages, Rubber Seals, Rivets

Comment 39: Empty Wheel Hub Units

C. Cixing

Comment 40: The Department Made an Error in Calculating the Regression-Based Wage Rate for China

Comment 41: Cixing's Market Economy Purchases of Balls

Comment 42: Cixing's Scrap Offset

Comment 43: Cixing's Surrogate Value for Inner and Outer Ring Steel

Comment 44: Cixing's Market Economy Purchases of Coil

Comment 45: Cixing's Marine and Inland Insurance

Comment 46: Liquidation During the Provisional Period

Comment 47: Cixing's Brokerage and Handling

Comment 48: Cixing's Air Freight

Comment 49: Cixing's Electric Motor Quality (EMQ) Bearings

Comment 50: Cixing's CONNUM Reporting Methodology and Ball Weights

Comment 51: Clerical Errors in the Amended Preliminary Program

[FR Doc. 03-5300 Filed 3-5-03; 8:45 am]

BILLING CODE 3510-DS-P